DEPARTMENT OF THE INTERIOR

National Park Service

[NPS-WASO-NAGPRA-NPS0034105; PPWOCRADN0-PCU00RP14.R50000]

Notice of Inventory Completion for Native American Human Remains and Associated Funerary Objects in the Possession of the Anthropological Studies Center (ASC), Archaeological Collections Facility, Sonoma State University, Rohnert Park, CA, and in Control of the California Department of Transportation (CALTRANS); Correction

AGENCY: National Park Service, Interior.

ACTION: Notice; correction.

SUMMARY: The California Department of Transportation (CALTRANS) has corrected an inventory of human remains and associated funerary objects, published in a Notice of Inventory Completion in the Federal Register on November 13, 2000. This notice corrects the cultural affiliation of the human remains and associated funerary objects. Lineal descendants or representatives of any Indian Tribe or Native Hawaiian organization not identified in this notice that wish to request transfer of control of these human remains and associated funerary objects should submit a written request to CALTRANS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to CALTRANS at the address in this notice by July 27, 2022.

FOR FURTHER INFORMATION CONTACT: Todd Jaffke, Senior Environmental Planner, California Department of Transportation, P.O. Box 94623 (M.S.8), Oakland, CA 94623-0660; telephone (510) 960-5025, email todd.jaffke@dot.ca.gov.

SUPPLEMENTARY INFORMATION: Notice is here given in accordance with the Native American Graves Protection and Repatriation Act (NAGPRA), 25 U.S.C. 3003, of the correction of an inventory of human remains and associated funerary objects under the control of the California Department of Transportation, Oakland, CA. The human remains and associated funerary objects were removed from the Suscol Site (CA-NAP-15/H) in Napa County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the cultural affiliation of human remains and associated funerary objects published in a Notice of Inventory Completion in the Federal Register (65 FR 67756-67757, November 13, 2000). This correction is being made after officials at CALTRANS identified additional culturally affiliated Indian Tribes. Also, the name of the culturally affiliated Indian Tribe listed in the previous notice is corrected. Transfer of control of the items in this correction notice has not occurred.

Correction

In the Federal Register (65 FR 67757, November 13, 2000), column 2, paragraph 1, sentence 3 is corrected by substituting the following sentence:

Officials of the California Department of Transportation have determined that, pursuant to 43 CFR 10.2(e), there is a relationship of shared group identity which can be reasonably traced between these Native American human remains and associated funerary objects and the Cachil DeHe Band of Wintun Indians of the Colusa Indian Community of the Colusa Rancheria, California; Kletsel Dehe Band of Wintun Indians (previously listed as Cortina Indian Rancheria); and the Yocha Dehe Wintun Nation, California (previously listed as Rumsey Indian Rancheria of Wintun Indians of California) (hereafter referred to as The Tribes).

Additional Requestors and Disposition

Lineal descendants or representatives of any Indian Tribe or Native Hawaiian organization not identified in this notice that wish to request transfer of control of these human remains and associated funerary objects should submit a written request with information in support of the request to Todd Jaffke, Senior Environmental Planner, California Department of Transportation, P.O. Box 94623 (M.S.8), Oakland, CA 94623-0660, telephone (510) 960-5025, email todd.jaffke@dot.ca.gov, by July 27, 2022. After that date, if no additional requestors have come forward, transfer of control of the human remains and associated funerary objects to The Tribes may proceed.

The California Department of Transportation is responsible for notifying The Tribes that this notice has been published.

Dated: June 10, 2022.
Melanie O'Brien,
Manager, National NAGPRA Program.

[FR Doc. 2022-13622 Filed 6-24-22; 8:45 am]

BILLING CODE 4312-52-P